DEPARTMENT OF ENERGY

Energy Information Administration

American Statistical Association Committee on Energy Statistics

AGENCY: Department of Energy.

ACTION: Notice of open meeting.

SUMMARY: This notice announces a meeting of the American Statistical Association Committee on Energy Statistics, a utilized Federal Advisory Committee. The Federal Advisory Committee Act (Pub. L. 92-463, 86 Stat. 770) requires that public notice of these meetings be announced in the Federal Register.

DATES: Thursday, October 16, 2003, 8:30 a.m.-4:30 p.m. Friday, October 17, 2003, 8:30 a.m.-12 noon.

ADDRESSES: Department of Energy, Room 8E-089, 1000 Independence Ave., SW, Washington, DC 20585.

FOR FURTHER INFORMATION CONTACT: Mr. William I. Weinig, EI-70, Committee Liaison, Energy Information Administration, U.S. Department of Energy, 1000 Independence Ave., SW, Washington, DC 20585, Telephone: (202) 287-1709. Alternately, Mr. Weinig may be contacted by e-mail at william.weinig@eia.doe.gov or by FAX at (202) 287-1705.

Purpose of the Committee: To advise the Department of Energy, Energy Information Administration (EIA), on EIA technical statistical issues and to enable the EIA to benefit from the Committee's experience concerning other energy-related statistical matters.

Tentative Agenda

Thursday, October 16, 2003

A. Opening Remarks by the ASA Committee Chair, the EIA Administrator and the Director, Statistics and Methods Group, EIA. Room 8E-089

B. Major Topics (Room 8E-089 unless otherwise noted)

1. EIA's Strategic Planning and Performance Goals

2. Data Initiatives in Natural Gas

A. Overview

B. Criteria to Select and Implement Estimation Procedures: A Comparison of Texas Production Methodologies

C. Industrial Natural Gas Prices

D. Natural Gas Production Estimation in the Gulf of Mexico

E. Residential and Commercial Prices for Natural Gas Data

3. Public Questions and Comments

Friday, October 17, 2003, Room 8E-089

C. Major Topics

1. Confidential Information Protection and Statistical Efficiency Act (CIPSEA)

2. Data Edits for the EIA-906

3. Using Relative Standard

4. Electricity Transmission Data Needs

5. ASA Committee Suggestions for the Spring, 2004 Meeting

6. Public Questions and Comments

D. Closing Remarks by the Chair

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above.

A Meeting Summary and Transcript will subsequently be available through Mr. Weinig who may be contacted at (202) 287-1709 or by e-mail at william.weinig@eia.doe.gov.

Issued at Washington, DC, on September 25, 2003.
Rachel M. Samuel,
Deputy Advisory Committee Management Officer.

[FR Doc. 03-24869 Filed 9-30-03; 8:45 am]

BILLING CODE 6450-01-P